DEPARTMENT OF HOMELAND SECURITY

U.S. Customs and Border Protection

19 CFR Chapter I

Transportation Security Administration

49 CFR Chapter XII

Notification of Arrival Restrictions Applicable to Flights Carrying Persons Who Have Recently Traveled From or Were Otherwise Present Within the People's Republic of China or the Islamic Republic of Iran

AGENCY: U.S. Customs and Border Protection and U.S. Transportation Security Administration, Department of Homeland Security.

ACTION: Notification of arrival restrictions.

SUMMARY: This document announces further modifications to the January 31, 2020, decision of the Secretary of Homeland Security (DHS) to direct all flights to the United States carrying persons who have recently traveled from, or were otherwise present within, the People's Republic of China (excluding the special autonomous regions of Hong Kong and Macau) to arrive at one of the United States airports where the United States Government is focusing public health resources. This document adds to the existing restrictions by directing all flights to the United States carrying persons who have recently traveled from, or were otherwise present within, the Islamic Republic of Iran to arrive at one of the United States airports where the United States Government is focusing public health resources. Nothing in this notification is intended to amend or modify the existing restrictions announced in the Federal Register on February 4, 2020 and February 7, 2020.

DATES: Flights departing after 5 p.m. EST on Monday, March 2, 2020, and covered by the arrival restrictions regarding the Islamic Republic of Iran are required to land at one of the airports identified in the documents published at 85 FR 6044 (February 4, 2020) and 85 FR 7214 (February 7, 2020). These arrival restrictions will continue until cancelled or modified by the Secretary of DHS and notification is published in the Federal Register of such cancellation or modification.

FOR FURTHER INFORMATION CONTACT: Matthew S. Davies, Office of Field Operations, U.S. Customs and Border Protection at 202-325-2073.

SUPPLEMENTARY INFORMATION:

Background

The United States Government is closely monitoring an outbreak of respiratory illness caused by a novel (new) coronavirus (which has since been renamed “SARS-CoV-2” and causes the disease COVID-19), first identified in Wuhan City, Hubei Province, People's Republic of China. Coronaviruses are a large family of viruses that are common in many different species of animals, including camels, cattle, cats, and bats. Rarely, animal coronaviruses can infect people, and then spread between people such as with Middle East Respiratory Syndrome and Severe Acute Respiratory Syndrome.

The potential for widespread transmission of this virus by infected individuals seeking to enter the United States threatens the security of our transportation system and infrastructure, and the national security. Noting recent pronouncements by the World Health Organization and Centers for Disease Control and Prevention (CDC) to assist in preventing the introduction, transmission, and spread of this communicable disease in the United States, DHS, in coordination with the CDC and other Federal, state, and local agencies charged with protecting the American public, is implementing enhanced traveler education protocols to ensure that all travelers with recent travel from, or who were otherwise recently present within, the Islamic Republic of Iran are provided appropriate public health services. The enhanced arrival protocols concerning travelers with recent travel from, or who were otherwise recently present within, the People's Republic of China, identified in the documents published at 85 FR 6044 (February 4, 2020) and 85 FR 7214 (February 7, 2020), also remain in place without modification in this notification.

Enhanced traveler education protocols are part of a layered approach used with other public health measures already in place to detect arriving travelers who are exhibiting overt signs of illness. Related measures include reporting ill travelers identified by air carriers during travel to appropriate public health officials for evaluation, and referring ill travelers arriving at a U.S. port of entry by Customs and Border Protection (CBP) to appropriate public health officials in order to slow and prevent the introduction into, and transmission and spread of, communicable disease in the United States.

To ensure that travelers with recent presence in the Islamic Republic of Iran are screened appropriately, DHS directs that all flights to the United States carrying persons who have recently traveled from, or were otherwise present within, the Islamic Republic of Iran arrive at airports where enhanced public health services and protocols have been implemented. Although DHS will continue to work with air carriers to ensure that they identify potential persons who traveled from, or who have otherwise recently been present within, the affected areas prior to boarding, air carriers shall comply with the requirements of this document in all cases, including when such persons are identified after boarding.

On Friday, January 31, 2020, DHS posted a document on the Federal Register public inspection page, announcing the DHS Secretary's decision that arrival restrictions regarding the People's Republic of China (excluding the special autonomous regions of Hong Kong and Macau) would go into effect at 5 p.m. EST on Sunday, February 2, 2020, at seven airports. On Friday, February 7, 2020, DHS published a document adding four airports to the list of airports where flights subject to the arrival restrictions are permitted to land and describing when the arrival restrictions would include those airports. DHS is not adding additional airports to the list at this time.

As with actions related to the People's Republic of China, DHS anticipates that airlines will be able to fully support implementation of these arrival restrictions.

Notification of Arrival Restrictions Applicable to All Flights Carrying Persons Who Have Recently Traveled From or Were Otherwise Present Within the Islamic Republic of Iran

Pursuant to 19 U.S.C. 1433(c), 19 CFR 122.32, 49 U.S.C. 114, and 49 CFR 1544.305 and 1546.105, DHS has the authority to limit the locations where all flights entering the U.S. from abroad may land. Under this authority and effective for flights departing after 5 p.m. EST on Monday, March 2, 2020, I hereby direct all operators of aircraft to ensure that all flights carrying persons who have recently traveled from, or were otherwise present within, the Islamic Republic of Iran only land at one of the following airports:

• John F. Kennedy International Airport (JFK), New York;

• Chicago O'Hare International Airport (ORD), Illinois;

• San Francisco International Airport (SFO), California;

• Seattle-Tacoma International Airport (SEA), Washington;

• Daniel K. Inouye International Airport (HNL), Hawaii;

• Los Angeles International Airport, (LAX), California;

• Hartsfield-Jackson Atlanta International Airport (ATL), Georgia;

• Washington-Dulles International Airport (IAD), Virginia;

• Newark Liberty International Airport (EWR), New Jersey;

• Dallas/Fort Worth International Airport (DFW), Texas; and

• Detroit Metropolitan Airport (DTW), Michigan.

This direction considers a person to have recently traveled from, or otherwise been present within, the Islamic Republic of Iran if that person departed from, or was otherwise present within, the Islamic Republic of Iran within 14 days of the date of the person's entry or attempted entry into the United States.

For purposes of this document, crew and flights carrying only cargo (i.e., no passengers or non-crew) are excluded from the applicable measures set forth in this notice.

This direction is subject to any changes to the airport landing destination that may be required for aircraft and/or airspace safety, as directed by the Federal Aviation Administration.

This list of affected airports may be modified by the Secretary of Homeland Security, in consultation with the Secretary of Health and Human Services and the Secretary of Transportation. This list of affected airports may be modified by an updated publication in the Federal Register or by posting an advisory to follow at www.cbp.gov. The restrictions will remain in effect until superseded, modified, or revoked by publication in the Federal Register.

For purposes of this Federal Register document, “United States” means the States of the United States, the District of Columbia, and territories and possessions of the United States (including Puerto Rico, the U.S. Virgin Islands, American Samoa, the Commonwealth of the Northern Mariana Islands, and Guam).

Chad F. Wolf,
Acting Secretary, U.S. Department of Homeland Security.

[FR Doc. 2020-04542 Filed 3-2-20; 4:15 pm]

BILLING CODE 9111-14-P